DEPARTMENT OF THE TREASURY

[Agency Information Collection Activities; Submission for OMB Review; Comment Request; Multiple Departmental Offices Information Collection Requests

AGENCY: Departmental Offices, U.S. Department of the Treasury.

ACTION: Notice of information collection; request for comment.

SUMMARY: The Department of the Treasury will submit the following information collection requests to the Office of Management and Budget (OMB) for review and clearance in accordance with the Paperwork Reduction Act of 1995, on or after the date of publication of this notice. The public is invited to submit comments on these requests.

DATES: Comments should be received on or before February 27, 2025 to be assured of consideration.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Copies of the submissions may be obtained from Spencer W. Clark by emailing PRA@treasury.gov, calling (202) 927-5331, or viewing the entire information collection request at www.reginfo.gov.

SUPPLEMENTARY INFORMATION:

1. Title: Survey of Foreign-Residents' Holdings of U.S. Securities.

OMB Control Number: 1505-0123.

Type of Request: Extension without change of a currently approved collection.

Description: The survey collects information on foreign resident's holdings of U.S. securities, including selected money market instruments. The data is used in the computation of the U.S. balance of payments accounts and U.S. international investment position, in the formulation of U.S. financial and monetary policies, to satisfy 22 U.S.C. 3101, and for information on foreign portfolio investment patterns. Respondents are primarily the largest banks, securities dealers, and issuers of U.S. securities.

Form: SHL/SHLA, Schedules 1 and 2.

Affected Public: Businesses or other for-profits.

Estimated Number of Respondents: 347.

Frequency of Response: Annual.

Estimated Total Number of Annual Responses: 347.

Estimated Time per Response: 155 hours.

Estimated Total Annual Burden Hours: 54,088.

2. Title: Survey of U.S. Ownership of Foreign Securities.

OMB Control Number: 1505-0146.

Type of Request: Extension without change of a currently approved collection.

Description: The survey collects information on U.S. holdings of foreign securities. The information is used in the computation of the U.S. balance of payments accounts and international investments position, as well as in the formulation of U.S. financial and monetary policies. This survey is also part of an international effort coordinated by the IMF to improve worldwide balance of payments statistics. Respondents are primarily the largest custodians of securities, banks, securities dealers, and investors.

Form: TIC-SHC/SHCA.

Affected Public: Businesses or other for-profits.

Estimated Number of Respondents: 336.

Frequency of Response: Annual, On occasion.

Estimated Total Number of Annual Responses: 457.

Estimated Time per Response: 140 hours.

Estimated Total Annual Burden Hours: 64,146.

3. Title: Treasury International Capital (TIC) Form D: Report of Holdings of, and Transactions in, Financial Derivatives Contracts with Foreign Residents.

OMB Control Number: 1505-0199.

Type of Request: Extension without change of a currently approved collection.

Description: Form D is required by law and is designed to collect timely information on International portfolio capital movements, including U.S. residents' holdings of, and transactions in, financial derivatives contracts with foreign residents. The information is used in the computation of the U.S. balance of payments accounts and international investment position, as well as in the formulation of U.S. International financial and monetary policies.

Form: TIC Form D.

Affected Public: Businesses or other for-profits.

Estimated Number of Respondents: 31.

Frequency of Response: Quarterly.

Estimated Total Number of Annual Responses: 124.

Estimated Time per Response: 30 hours.

Estimated Total Annual Burden Hours: 3,720.

Authority: 44 U.S.C. 3501 et seq.

Spencer W. Clark,
Treasury PRA Clearance Officer.

[FR Doc. 2025-01837 Filed 1-27-25; 8:45 am]

BILLING CODE 4810-AK-P